EXPORT-IMPORT BANK

[Public Notice: 2018-6022]

Agency Information Collection Activities: Comment Request

AGENCY: Export-Import Bank of the United States

ACTION: Submission for OMB review and comments request.

SUMMARY: The Export-Import Bank of the United States (EXIM), as part of its continuing effort to reduce paperwork and respondent burden, invites the general public and other Federal Agencies to comment on the proposed information collection, as required by the Paperwork Reduction Act of 1995.

This collection of information is necessary, pursuant to 12 U.S.C. Sec. 635 (a) (1), to determine eligibility of the applicant for EXIM assistance.

DATES: Comments must be received on or before February 19, 2019, to be assured of consideration.

ADDRESSES: Comments may be submitted electronically on WWW.REGULATIONS.GOV (EIB 92-36) or by email to Mia.Johnson@exim.gov, or by mail to Mia L. Johnson, Export-Import Bank of the United States, 811 Vermont Ave., NW Washington, DC 20571. The application tool can be reviewed at: https://www.exim.gov/sites/default/files/pub/pending/eib92-36.pdf.

SUPPLEMENTARY INFORMATION:

Title and Form Number: EIB 92-36 Application for Issuing Bank Credit Limit (IBCL) Under Lender or Exporter-Held Policies.

OMB Number: 3048-0016.

Type of Review: Renewal.

Need and Use: This form is used by an insured exporter or lender (or broker acting on its behalf) in order to obtain approval for coverage of the repayment risk of an overseas bank. The information received allows EXIM staff to make a determination of the creditworthiness of the foreign bank and the underlying export sale for EXIM assistance under its programs.

Affected Public: This form affects entities involved in the export of U.S. goods and services.

Annual Number of Respondents: 600.

Estimated Time per Respondent: 1.2 hours.

Annual Burden Hours: 720 hours.

Frequency of Reporting of Use: As needed.

Government Expenses:

Reviewing time per year: 600 hours.

Average Wages per Hour: $42.50.

Average Cost per Year: $25,500 (time*wages).

Benefits and Overhead: 20%.

Total Government Cost: $30,600.

Bassam Doughman,
IT Specialist.

[FR Doc. 2018-27482 Filed 12-18-18; 8:45 am]

BILLING CODE 6690-01-P